DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the energy information collection listed at the end of this notice to the Office of Management and Budget (OMB) for review and a three-year extension with revisions under section 3507(h)(1) of the Paperwork Reduction Act of 1995 (Pub. L. 104-13) (44 U.S.C. 3501 et seq.).

DATES: Comments must be filed by August 9, 2002. If you anticipate that you will be submitting comments but find it difficult to do so within that period, you should contact the OMB Desk Officer for DOE listed below as soon as possible.

ADDRESSES: Send comments to Bryon Allen, OMB Desk Officer for DOE, Office of Information and Regulatory Affairs, Office of Management and Budget. To ensure receipt of the comments by the due date, submission by FAX (202-395-7285) or e-mail (BAllen@omb.eop.gov) is recommended. The mailing address is 726 Jackson Place N.W., Washington, DC 20503. The OMB DOE Desk Officer may be telephoned at (202) 395-3087. (A copy of your comments should also be provided to EIA's Statistics and Methods Group at the address below.)

FOR FURTHER INFORMATION CONTACT: A copy of the materials submitted to OMB is available at http://www.eia.doe.gov/cneaf/electricity/page/form_417/form_417.html. Requests for additional information should be directed to Herbert Miller. To ensure timely receipt of any comments sent to EIA, submission by FAX (202-287-1705) or e-mail (herbert.miller@eia.doe.gov) is recommended. Mr. Miller's mailing address is Statistics and Methods Group (EI-70), Forrestal Building, U.S. Department of Energy, Washington, DC 20585-0670. Mr. Miller may be contacted by telephone at (202) 287-1711.

SUPPLEMENTARY INFORMATION: This section contains the following information about the energy information collection submitted to OMB for review: (1) The collection numbers and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Form EIA-417, “Electric Emergency Incident and Disturbance Report”

2. Energy Assessment/Office of Emergency Management

3. OMB Number 1901-0288

4. Revision and three-year approval requested—The EIA-417 was previously submitted to OMB in March 2002. That request was withdrawn in May to allow additional time for consultations and refinement of the information collection.

Changes to the information collection from the earlier request are:

(a) Who must respond—this section on the form and instructions was changed so that electric utilities would file the form if an incident occurs. The reporting obligation for the utilities that handle reliability authority functions was reduced. All electric utilities, including those that operate Control Area Operator functions and Reliability Authority (RA) functions, will be required to supply information. RA's will not be required to file the number of customers lost and amount of power lost when the incidents occur.

(b) Confidentiality—There will be a pledge of confidentiality for all information supplied on Schedule II and any attachments filed with Schedule II.

(c) For the Preliminary Report (Schedule I), reporting of estimates and “unknown at this time” have been added for many categories.

(d) For the reporting of 50,000 customers or more lost during an outage, it has been clarified that the outage must last longer than an hour.

(e) An option has been granted to permit utilities to file reports of suspected malicious or intentional incidents (physical or cyber/computer/telecom) directly from the divisions in the utilities to the Department.

5. Mandatory

6. Form EIA-417 collects information on electric emergency incidents and disturbances for DOE's use in fulfilling its overall national security and other energy management responsibilities. The information will also be used by DOE for analytical purposes. All electric utilities, including those that operate Control Area Operator functions and Reliability Authority functions, will be required to supply information when an incident or disturbance meets a reporting threshold.

7. Business or other for-profit; State, local or tribal government

8. 7,310 hours (3330 respondents × 2.215 hours per response) annually. This burden estimate includes time for training personnel on the reporting requirements.

Statutory Authority: Section 3507(h)(1) of the Paperwork Reduction Act of 1995 (Pub. L. No. 104-13)(44 U.S.C. 3501 et seq).

Issued in Washington, DC, July 3, 2002.
Jay H. Casselberry,
Agency Clearance Officer, Statistics and Methods Group, Energy Information Administration.

[FR Doc. 02-17285 Filed 7-9-02; 8:45 am]

BILLING CODE 6450-01-P